NATIONAL CREDIT UNION ADMINISTRATION

[Docket No. NCUA-2021-0100]

Request for Comment Regarding National Credit Union Administration Draft Strategic Plan 2022-2026

AGENCY: National Credit Union Administration (NCUA).

ACTION: Notice; request for comments.

SUMMARY: The NCUA Board (Board) is requesting comment on its Draft Strategic Plan 2022-2026. The draft plan provides the agency's proposed strategic goals and objectives for the next five years. The draft plan summarizes an analysis of the internal and external environment impacting NCUA and evaluates the agency's programs and risks. The draft plan also includes examples of measures the agency can use to monitor performance, and strategies that describe how the agency will achieve its strategic goals and objectives. While the Board welcomes all comments from the public and stakeholders, it specifically invites comments and input on the proposed goals and objectives of the draft plan.

DATES: Comments must be received on or before January 24, 2022 to be assured of consideration.

ADDRESSES: You may submit comments by any of the following methods (Please send comments by one method only):

• Federal eRulemaking Portal: http://www.regulations.gov/. The docket number for this notice is NCUA-2021-0100. Go to www.regulations.gov. Enter “Docket ID NCUA-2021-0100” in the Search Box and click “Search.” Click on “Comment Now” to submit public comments. Click on the “Help” tab on the Regulations.gov home page to get information on using Regulations.gov, including instructions for submitting public comments.

• Fax: (703) 518-6319. Include your name and the following subject line: “Comments on NCUA 2018-2022 Draft Strategic Plan.”

• Mail: Address to Melane Conyers-Ausbrooks, Secretary of the Board, National Credit Union Administration, 1775 Duke Street, Alexandria, Virginia 22314-3428.

• Hand Delivery/Courier: Same as mail address.

Public Inspection: All public comments are available on the Federal eRulemaking Portal at: http://www.regulations.gov/ as submitted, except as may not be possible for technical reasons. Public comments will not be edited to remove any identifying or contact information. Due to social distancing guidelines, the usual opportunity to inspect paper copies of comments in the NCUA's law library is not currently available. After social distancing measures are relaxed, visitors may make an appointment to review paper copies by calling (703) 518-6540 or emailing boardcomments@ncua.gov.

FOR FURTHER INFORMATION CONTACT: Lindsey Courage, Management Analyst, National Credit Union Administration, 1775 Duke Street, Alexandria, Virginia 22314-3428 or telephone: (703) 518-6386.

SUPPLEMENTARY INFORMATION: The Government Performance and Results Act of 1993 (GPRA) requires agencies to prepare strategic plans, annual performance plans, and annual performance reports with measurable performance indicators to address the policy, budgeting and oversight needs of both Congress and agency leaders, partners/stakeholders, and program managers. In 2010, Congress passed the GPRA Modernization Act of 2010, which further requires a leadership-driven governance model with emphasis on quarterly performance reviews and transparency. The GPRA Modernization Act requires agencies to set priority goals linked to longer-term agency strategic goals. Part 6 of Office of Management and Budget (OMB) Circular A-11 provides additional guidance and requirements for federal agencies to implement these laws. The NCUA Draft Strategic Plan 2022-2026 is issued pursuant to the GPRA, the GPRA Modernization Act, and OMB Circular A-11.

The NCUA Draft Strategic Plan 2022-2026 outlines how the agency will continue to effectively supervise and insure a growing and evolving credit union system. As the financial services and the credit union sector evolve, the NCUA must be responsive. The NCUA Draft Strategic Plan 2022-2026 aims to be forward-looking and address the risks and opportunities facing the agency and the credit union system over the next five years. The agency is seeking comment on all aspects of the draft plan, with particular emphasis on the draft strategic goals and strategic objectives. The NCUA Board will analyze the comments received and determine whether to update the draft plan. Comments received may also be considered during development of the agency's Annual Performance Plans during the strategic plan period, as applicable. Approval of the proposed final NCUA Strategic Plan 2022-2026 will require a vote of the NCUA Board.

By providing opportunity for public comment on the NCUA Draft Strategic Plan 2022-2026, as well as by posting it on the agency's website at www.ncua.gov, the NCUA continues its ongoing commitment to transparency about the agency's future plans and actions.

The NCUA Draft Strategic Plan 2022-2026 is available at the following Web address: https://www.ncua.gov/files/agenda-items/AG20211118Item2b.pdf.

Authority: 5 U.S.C. 306.

By the National Credit Union Administration Board on November 18, 2021.
Melane Conyers-Ausbrooks,
Secretary of the Board.

[FR Doc. 2021-25633 Filed 11-23-21; 8:45 am]

BILLING CODE 7535-01-P